DEPARTMENT OF TRANSPORTATION

Federal Aviation Administration

14 CFR Part 39

[Docket No. FAA-2025-1362; Project Identifier MCAI-2025-00062-G]

RIN 2120-AA64

Airworthiness Directives; Schempp-Hirth Flugzeugbau GmbH Gliders

AGENCY: Federal Aviation Administration (FAA), DOT.

ACTION: Supplemental notice of proposed rulemaking (SNPRM).

SUMMARY: The FAA is revising a notice of proposed rulemaking (NPRM) that would have applied to certain Schempp-Hirth Flugzeugbau GmbH (Schempp-Hirth) Model CIRRUS gliders. This action revises the NPRM by changing references to the affected glider model from CIRRUS to STANDARD CIRRUS throughout the proposed airworthiness directive (AD). The FAA is proposing this AD to address the unsafe condition on these products. The FAA is requesting comments on this SNPRM.

DATES: The FAA must receive comments on this SNPRM by January 12, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-1362; or in person at Docket Operations between 9 a.m. and 5 p.m., Monday through Friday, except Federal holidays. The AD docket contains this SNPRM, the mandatory continuing airworthiness information (MCAI), any comments received, and other information. The street address for Docket Operations is listed above.

Material Incorporated by Reference:

• For SCHEMPP-HIRTH Flugzeugbau GmbH material identified in this proposed AD, contact Schempp-Hirth, Krebenstraße 25, 73230 Kirchheim unter Teck, Germany; phone: +49 7021 7298-0; email: info@schempp-hirth.com; website: schempp-hirth.com.

• You may view this material at the FAA, Airworthiness Products Section, Operational Safety Branch, 901 Locust, Kansas City, MO 64106. For information on the availability of this material at the FAA, call (817) 222-5110.

FOR FURTHER INFORMATION CONTACT: Peter Schmitt, Aviation Safety Engineer, FAA, 1600 Stewart Avenue, Suite 410, Westbury, NY 11590; phone: (206) 231-3377; email: peter.a.schmitt@faa.gov.

SUPPLEMENTARY INFORMATION:

Comments Invited

The FAA invites you to send any written relevant data, views, or arguments about this proposal. Send your comments using a method listed under the ADDRESSES section. Include “Docket No. FAA-2025-1362; Project Identifier MCAI-2025-00062-G” at the beginning of your comments. The most helpful comments reference a specific portion of the proposal, explain the reason for any recommended change, and include supporting data. The FAA will consider all comments received by the closing date and may again revise this proposal because of those comments.

Except for Confidential Business Information (CBI) as described in the following paragraph, and other information as described in 14 CFR 11.35, the FAA will post all comments received, without change, to regulations.gov, including any personal information you provide. The agency will also post a report summarizing each substantive verbal contact received about this SNPRM.

Confidential Business Information

CBI is commercial or financial information that is both customarily and actually treated as private by its owner. Under the Freedom of Information Act (FOIA) (5 U.S.C. 552), CBI is exempt from public disclosure. If your comments responsive to this SNPRM contain commercial or financial information that is customarily treated as private, that you actually treat as private, and that is relevant or responsive to this SNPRM, it is important that you clearly designate the submitted comments as CBI. Please mark each page of your submission containing CBI as “PROPIN.” The FAA will treat such marked submissions as confidential under the FOIA, and they will not be placed in the public docket of this SNPRM. Submissions containing CBI should be sent to Peter Schmitt, Aviation Safety Engineer, FAA, 1600 Stewart Avenue, Suite 410, Westbury, NY 11590. Any commentary that the FAA receives which is not specifically designated as CBI will be placed in the public docket for this rulemaking.

Background

The FAA issued an NPRM to amend 14 CFR part 39 by adding an AD that would apply to certain Schempp-Hirth Model CIRRUS gliders. The NPRM was published in the Federal Register on July 22, 2025 (90 FR 34391). The NPRM was prompted by European Union Aviation Safety Agency (EASA) AD 2024-0242R1, dated January 17, 2025, issued by EASA, which is the Technical Agent for the Member States of the European Union (EASA AD 2024-0242R1) (also referred to as the MCAI). The MCAI states that occurrences were reported of a broken outer race in the lower ball bearing installed on the all-moving horizontal tailplane drive fitting. This condition, if not addressed, could lead to the tailplane drive jamming and loss of control of the glider.

In the NPRM, the FAA proposed to require inspecting the elevator drive fitting to determine the type of lower ball bearing installed and, depending upon the results, replacing the lower ball bearing with a serviceable part.

You may examine the MCAI in the AD docket at regulations.gov under Docket No. FAA-2025-1362.

Actions Since the NPRM Was Issued

Since the FAA issued the NPRM, a commenter noted that the NPRM referenced the incorrect glider model. The SNPRM revises the NPRM by updating the reference to the affected Schempp-Hirth glider model from CIRRUS to STANDARD CIRRUS. Neither the MCAI nor the service information has been revised since the NPRM was published. This SNPRM was prompted by the FAA's determination that the affected glider model referenced in the NPRM was incorrect and needed to be changed. The FAA is proposing this AD to address the unsafe condition on these products.

Comments

The FAA received one comment from an individual commenter. The following presents the comment received on the NPRM and the FAA's response to the comment.

Request To Correct Glider Model Applicability

An individual commenter requested that the FAA revise the proposed AD by changing the referenced applicability to Schempp-Hirth Model STANDARD CIRRUS sailplanes rather than Schempp-Hirth Model CIRRUS sailplanes. The commenter noted that the CIRRUS sailplane is a different type of glider model than the STANDARD CIRRUS sailplane with a different type of elevator.

The FAA agrees with the commenter's request and has revised this proposed AD as requested.

FAA's Determination

These products have been approved by the civil aviation authority of another country and are approved for operation in the United States. Pursuant to the FAA's bilateral agreement with this State of Design Authority, that authority has notified the FAA of the unsafe condition described in the MCAI referenced above. The FAA is issuing this SNPRM after determining that the unsafe condition described previously is likely to exist or develop on other products of the same type design.

Certain changes described above expand the scope of the NPRM. As a result, it is necessary to reopen the comment period to provide additional opportunity for the public to comment on this SNPRM.

Material Incorporated by Reference Under 1 CFR Part 51

The FAA reviewed SCHEMPP-HIRTH Flugzeugbau GmbH Technical Note No. 278-25, Revision 1, dated July 9, 2024, which specifies procedures for inspecting the elevator drive fitting to determine which type of lower ball bearing is installed, and depending on the results, replacing the lower ball bearing with a serviceable part.

This material is reasonably available because the interested parties have access to it through their normal course of business or by the means identified in the ADDRESSES section.

Proposed AD Requirements in This SNPRM

This proposed AD would require accomplishing the actions specified in the material already described.

Costs of Compliance

The FAA estimates that this AD, if adopted as proposed, would affect 17 gliders of U.S. registry.

The FAA estimates the following costs to comply with this proposed AD:

Estimated Costs
Action | Labor cost | Parts cost | Cost per product | Cost on U.S. operators
Inspect elevator drive fitting or records review to determine if affected part is installed | 1 work-hour × $85 per hour = $85 | $0 | $85 | $1,445

The FAA estimates the following costs to do any necessary replacements that would be required based on the results of the proposed inspection. The agency has no way of determining the number of gliders that might need these replacements:

On-Condition Costs
Action | Labor cost | Parts cost | Cost per product
Replace elevator drive lower ball bearing | 1 work-hour × $85 per hour = $85 | $35 | $120

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Schempp-Hirth Flugzeugbau GmbH: Docket No. FAA-2025-1362; Project Identifier MCAI-2025-00062-G.

(a) Comments Due Date

The FAA must receive comments on this airworthiness directive (AD) by January 12, 2026.

(b) Affected ADs

None.

(c) Applicability

This AD applies to Schempp-Hirth Flugzeugbau GmbH Model STANDARD CIRRUS gliders, serial numbers 21, 23, 27, 30, 32, 33, 34, 36 through 52, and 54 through 120, certificated in any category.

(d) Subject

Joint Aircraft System Component (JASC) Code 5520, Elevator Structure.

(e) Unsafe Condition

This AD was prompted by reports of a broken outer race component of the lower ball bearing installed in the all-moving horizontal tailplane drive fitting. The FAA is issuing this AD to address this unsafe condition. The unsafe condition, if not addressed, could result in the tailplane drive jamming and loss of control of the glider.

(f) Compliance

Comply with this AD within the compliance times specified, unless already done.

(g) Definitions

For the purpose of this AD, the definitions in paragraphs (g)(1) and (2) of this AD apply.

(1) An “affected part” is as identified in SCHEMPP-HIRTH Flugzeugbau GmbH Technical Note No. 278-25, Revision 1, dated July 9, 2024 (SCHEMPP-HIRTH TN No. 278-25, Revision 1): EL6 lower ball bearing (identified as type 1a) or self-aligning lower ball bearing (identified as type 1b) of the elevator drive fitting.

(2) A “serviceable part” is as identified in SCHEMPP-HIRTH TN No. 278-25, Revision 1: Lower bearing ring with inner bronze bushing having part number HS4-30.013/1 (identified as type 1d).

(h) Required Actions

(1) Within 4 months after the effective date of this AD, inspect the elevator drive fitting to determine if an affected part is installed, in accordance with the instructions of Actions 1. in SCHEMPP-HIRTH TN No. 278-25, Revision 1. A review of glider maintenance records instead of this inspection is acceptable provided it can be conclusively determined from that review if an affected part is installed.

(2) If, during the inspection or maintenance records review required by paragraph (h)(1) of this AD, it is determined that an affected part is installed, within 4 months after the effective date of this AD, replace the affected part with a serviceable part in accordance with the instructions of Actions 2. of SCHEMPP-HIRTH TN No. 278-25, Revision 1.

(i) Parts Installation Prohibition

As of the effective date of this AD, do not install an affected part as defined in paragraph (g)(1) of this AD on any glider.

(j) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov. Before using any approved AMOC, notify your appropriate principal inspector, or lacking a principal inspector, the manager of the local flight standards district office/certificate holding district office.

(k) Additional Information

For more information about this AD, contact Peter Schmitt, Aviation Safety Engineer, FAA, 1600 Stewart Avenue, Suite 410, Westbury, NY 11590; phone: (206) 231-3377; email: peter.a.schmitt@faa.gov.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) SCHEMPP-HIRTH Flugzeugbau GmbH Technical Note No. 278-25, Revision 1, dated July 9, 2024.

(ii) [Reserved]

(3) For SCHEMPP-HIRTH Flugzeugbau GmbH material identified in this AD, contact Schempp-Hirth Flugzeugbau GmbH, Krebenstraße 25, 73230 Kirchheim unter Teck, Germany; phone: +49 7021 7298-0; email: info@schempp-hirth.com; website: schempp-hirth.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on November 24, 2025.
Steven W. Thompson,
Acting Deputy Director, Compliance & Airworthiness Division, Aircraft Certification Service.

[FR Doc. 2025-21409 Filed 11-26-25; 8:45 am]

BILLING CODE 4910-13-P